DEPARTMENT OF STATE

22 CFR Parts 41 and 42

[Public Notice 4028]

Documentation of Immigrants and Nonimmigrants Under the Immigration and Nationality Act, as Amended—Visa Fees: Interim Rule With Request for Comments; Correction

AGENCY: Department of State.

ACTION: Interim rule with request for comments; Correction.

SUMMARY: The document, published on June 6, 2002, in the Federal Register(67 FR 38892) inadvertently omitted the effective date of the interim rule. This document correctly establishes the effective date as set forth in the DATES section below. This document also corrects references in the preamble that mistakenly referred to the interim rule as a proposed rule.

DATES: The interim rule, published on June 6, 2002 (67 FR 38892), became effective on June 6, 2002. Written comments may be submitted on or before July 8, 2002.

ADDRESSES: Written comments may be submitted, in duplicate, to the Legislation and Regulations Division, Visa Services, Department of State, Washington, DC 20520-0106 or by e-mail to visaregs@state.gov.

FOR FURTHER INFORMATION CONTACT: Elizabeth J. Harper, Legislation and Regulations Division, Visa Services, Department of State, Washington, DC 20520-0106, by tel. (202) 663-1221, e-mail harperb@state.gov, or by fax (202) 663-3898.

SUPPLEMENTARY INFORMATION: The Department of State published a document in the Federal Register on June 6, 2002, (67 FR 38892), which inadvertently omitted its effective date and mistakenly referred to the interim rule as a proposed rule. This document establishes the effective date as set forth in the DATES section and makes the following correction:

In interim rule FR DOC 02-13001 published on June 6, 2002 (67 FR 38892), on page 38893, in the first column the section entitled “Administrative Procedure Act” should read as follows:

Administrative Procedure Act

The Department of State is publishing this rule as an interim rule, with a 30-day provision for public comments.

Dated: June 11, 2002.
Timothy Egert,
Federal Register Liaison, Department of State.

[FR Doc. 02-15096 Filed 6-13-02; 8:45 am]

BILLING CODE 4710-06-P